DEPARTMENT OF TRANSPORTATION

[DOT-OST-2023-0080]

National Travel and Tourism Infrastructure Strategic Plan; Request for Comment

AGENCY: Office of the Secretary, U.S. Department of Transportation (DOT).

ACTION: Notice; request for comment (RFC).

SUMMARY: The U.S. Department of Transportation is seeking public input to aid it in updating DOT's National Travel and Tourism Infrastructure Strategic Plan (NTTISP). DOT will consider input and the comments received in the development of the NTTISP.

DATES: Comments must be received on or before July 17, 2023.

ADDRESSES: Submissions in response to this notice may be sent by either of the following two methods, although DOT prefers the first:

• Electronic comments may be sent to nttisp@dot.gov. Submissions should be machine-readable and not be copy-protected.

• Written comments may be sent to: The Office of International Transportation and Trade, ATTN: Nicole Bambas, NTTISP, RM W88-303, 1200 New Jersey Avenue SE, Washington, DC 20590.

Any submissions received after the deadline may not be accepted or considered.

• Confidential Business Information (CBI): CBI is commercial or financial information that is customarily and actually treated as private by its owner. Under the Freedom of Information Act (FOIA) (5 U.S.C. 552), CBI is exempt from public disclosure. If your comments in response to this RFC contain commercial or financial information that is customarily treated as private, that you actually treat as private, and that is relevant or responsive to this RFC, it is important that you clearly designate the submitted comments as CBI. Please mark each page of your submission containing CBI as “PROPIN” to indicate that it contains proprietary information. DOT will treat such marked submissions as confidential under FOIA and not place them in the public docket of this RFC. Submissions containing CBI should be sent to the name and physical or email address listed below.

FOR FURTHER INFORMATION CONTACT: Nicole Bambas at nttisp@dot.gov or 202-366-4398. Individuals who use a telecommunications device for the deaf (TDD) may call the Federal Information Relay Service (FIRS) at 1-800-877-8339 between 8 a.m. and 8 p.m. (ET) Monday through Friday.

SUPPLEMENTARY INFORMATION: In January 2021, DOT released its National Travel and Tourism Infrastructure Strategic Plan for FY 2020-2024 (NTTISP 2020-2024), which can be found here: https://www.transportation.gov/policy-initiatives/NTTISP. DOT developed the NTTISP in response to the mandate in the 2015 Fixing America's Surface Transportation Act (FAST ACT) that it assess the condition and performance of our national transportation network, identify issues that create congestion and barriers to travel and tourism, and develop strategies for improving vital travel infrastructure. While DOT was developing the NTTISP, the world began to experience the impact of the public health emergency created by the coronavirus disease 2019 (COVID-19) pandemic.

Given the consequences of COVID-19 to the travel and tourism industry, Congress has mandated that DOT revisit the NTTISP. In November 2021, President Biden signed the Infrastructure Investment and Jobs Act (Pub. L. 117-58, implemented as the Bipartisan Infrastructure Law or BIL). Section 25018 of the BIL directs DOT to update the NTTISP and include new matters such as immediate and long-term strategies, policy recommendations and infrastructure investments across all modes of transportation to revive the travel and tourism industry and the overall travel and tourism economy in the wake of the COVID-19 pandemic. The NTTISP must also identify possible infrastructure investments that create recovery opportunities for small, underserved, minority, and rural businesses in the travel and tourism industry, including efforts to preserve and protect scenic, but often less-traveled, roads that promote tourism and economic development throughout the United States.

DOT's updated NTTISP will be complementary to the whole-of-government efforts of the Tourism Policy Council (TPC), led by the Department of Commerce, and its National Tourism Strategy, focusing on challenges and solutions over the immediate and longer term while also addressing DOT's strategic goals of safety, economic strength, climate resilience, equity, and organizational excellence in the transportation sector. DOT is a member of the TPC, which was established by Congress to ensure that the United States' national interest in travel and tourism is fully considered in Federal decision making.

DOT seeks public input to aid it in updating the NTTISP. More specifically, it seeks input from the public, including State Departments of Transportation, public and private transportation stakeholders, academia, government, business, and industry groups of all sizes; entities directly performing travel and tourism research and development; and entities directly affected by such research and development.

Persons responding to this RFC are asked to include responses to the following questions in their comments:

1. How can transportation infrastructure better facilitate long-distance travel and tourism?

a. For this report, we anticipate long-distance travel and tourism trips to be defined as any trip greater than 50 miles using any mode of transportation or combination of modes of transportation. Is there a better definition for long-distance travel and tourism? Please explain.

b. What are the biggest opportunities for transportation infrastructure to support long-distance travel and tourism? Discuss any best practices.

c. What issues relating to the national transportation network create significant congestion problems and barriers to long-distance passenger travel and tourism?

d. What are best practices related to improving the performance of the national transportation network for long-distance travel and tourism?

e. What strategies should be considered to improve intermodal connectivity for long-distance travel and tourism?

f. Where and what are the most regionally and nationally significant transportation facilities and corridors for current and forecasted long-distance travel and tourism? Describe these facilities and corridors and explain how they were identified and why they are critical to our nation's long-distance travel and tourism by providing any applicable research or data.

g. What are some of the emerging challenges to long-distance travel and tourism and what actions should the Department and other agencies consider in order to anticipate and mitigate their effects?

2. What statutory, regulatory, technological, institutional, financial, and other barriers should be considered to improve long distance travel and tourism?

3. What policy recommendations should DOT and other agencies consider for using infrastructure investments across all modes of transportation to address the challenges of the travel and tourism industry and the overall travel and tourism economy in the wake of the COVID-19 pandemic?

4. What data sources should DOT consider as it updates the NTTISP?

a. DOT recognizes the challenge of gathering information on trip purpose and long-distance travel. What sources of data and information exist that include trip purpose and long-distance travel?

b. What sources of demographic data and information on origins and destinations of long-distance travelers should DOT consider?

c. What data sources should DOT consider related to the impacts of COVID-19 on long-distance travel and tourism?

5. How can transportation infrastructure policymakers support small, underserved, minority, and rural businesses in the travel and tourism industry?

6. How can policymakers support travelers from underserved communities and improve transportation accessibility?

7. How can policymakers support travel that is sustainable and reduces greenhouse gas emissions?

8. What metrics can help identify scenic, but often less-traveled roads, cruises, and rail corridors that promote tourism and economic development throughout the United States?

9. How should DOT reflect new and future innovations in travel in the NTTISP?

Issued on May 30, 2023.
Julie Abraham,
Director, Office of International Transportation and Trade, U.S. Department of Transportation.

[FR Doc. 2023-11805 Filed 6-1-23; 8:45 am]

BILLING CODE P